OFFICE OF THE UNITED STATES TRADE REPRESENTATIVE

[Docket No. USTR-2009-0010]

Request for Public Comments Regarding Status of U.S. Equipment Industry Access to the European Community's (EC) Galileo Program and European Markets for Related Goods and Services

Agency: Office of the United States Trade Representative.

Action: Request for comments.

Summary: The Trade Policy Staff Committee is seeking the views of interested parties on six questions regarding U.S. equipment industry access to the EC Galileo program and European markets for related goods and services, which pertain to Articles 5, 6, and 8 of the Agreement on the Promotion, Provision and Use of Galileo and GPS Satellite-Based Navigation Systems and Related Applications (“Agreement”). USTR will use this information in connection with its preparation of a report to Congress, as requested in the explanatory statement accompanying the Omnibus Appropriations Act, 2009, and to identify issues that may merit further discussion with the EC and its Member States under the consultation mechanism established under the Agreement.

Dates: Public comments are due no later than 5 p.m., Wednesday, May 13, 2009.

ADDRESSES: Comments should be submitted electronically to http://www.regulations.gov, docket number USTR-2009-0010. If you are unable to provide submissions by http://www.regulations.gov, please contact Gloria Blue at (202) 395-3475 to arrange for an alternative method of transmission. If (as explained below) the comment contains confidential information, then the comment should be submitted only by fax to Gloria Blue at (202) 395-5141.

FOR FURTHER INFORMATION CONTACT: For procedural questions concerning written comments, contact Gloria Blue, Executive Secretary, Trade Policy Staff Committee, at (202) 395-3475. All other questions should be directed to Scott Pietan, Director of Industry, Office of the United States Trade Representative, 600 17th Street, NW., Washington, DC, (202) 395-9646.

Supplementary Information: In 2004, the United States and the EC and its Member States signed the Agreement on the Promotion, Provision and Use of Galileo and GPS Satellite-Based Navigation Systems and Related Applications (“Agreement”), which addresses U.S. and EC satellite navigation services, in particular the U.S. Global Positioning System, and the planned EC Galileo system. The Agreement has not yet entered into force, but it is being provisionally applied. The Agreement may be found at http://pnt.gov/public/docs/2004/gpsgalileoagreement.pdf. In addition to addressing signal compatibility and individual and mutual security concerns, the Agreement calls for non-discrimination and open markets in trade in civil satellite navigation-related goods and services.

In an explanatory statement accompanying the Omnibus Appropriations Act, 2009, Congress requested that USTR report on the status of U.S. equipment industry access to the EC Galileo program and European markets for related goods and services, in order to assess EC compliance with the Agreement. Joint Explanatory Statement to the Omnibus Appropriations Act, 2009, Public Law 111-008, 155 Cong. Rec. H1653, H1840 (daily ed., Feb. 23, 2009). To assist it in fulfilling that request, and in identifying matters that merit further discussion with the EC and its Member States in connection with the consultation mechanism provided under the Agreement, USTR is seeking comments on six issues:

(1) Has the EC or any of its Member States established any measures of the type described in Article 5.1 of the Agreement that adversely affect U.S. equipment industry access to Galileo navigation and timing signals and services, value added services, augmentations and global navigation and timing goods, or European markets for related goods and services?

(2) Has the EC or any of its Member States established any measures that have the effect, directly or indirectly, of mandating the use of any civil satellite-based navigation and timing signals or services, value-added service, augmentation, or global navigation and timing equipment within its territory, not expressly authorized by the International Civil Aviation Organization or the International Maritime Organization, as described in Article 5.2 of the Agreement?

(3) Does the EC or any of its Member States maintain a non-discriminatory approach with respect to trade in goods and services related to civil satellite-based navigation and timing signals, augmentations, and value-added services, consistent with the affirming statement contained in Article 6.1 of the Agreement?

(4) Are any EC or Member State measures with respect to goods and services related to civil satellite-based navigation and timing signals or services, augmentations, and value-added services used as a disguised restriction on or an unnecessary obstacle to international trade, as described in Article 6.2 of the Agreement?

(5) Does the EC make publicly available on a non-discriminatory basis, sufficient information concerning its unencrypted civil satellite-based navigation and timing signals and augmentations, consistent with Article 8.1 of the Agreement?

(6) To the extent that it provides civil satellite-based navigation and timing signals or services, augmentation, or value-added service for civil users that is encrypted or otherwise has features that allow the global navigation service provider to deny access, does the EC or any of its Member States, subject to applicable export controls, afford to U.S. manufacturers of global navigation and timing equipment or augmentation or value-added services providers, on a non-discriminatory basis, access to the information necessary to incorporate such encryption or other similar features into their equipment, through licensing of necessary information or other means at market prices, consistent with the terms set forth in Article 8.2 of the Agreement?

Public Comment: Requirements for Submissions

Persons may submit public comments electronically to http://www.regulations.gov docket number USTR-2009-0010. If you are unable to provide submission by http://www.regulations.gov, please contact Gloria Blue at (202) 395-3475 to arrange for an alternative method of transmission.

To submit comments via http://www.regulations.gov, enter docket number USTR-2009-0010 on the home page and click “go”. The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page.) The http://www.regulations.gov site provides the option of providing comments by filling in a “General Comments” field, or by attaching a document. It is expected that most comments will be provided in an attached document. If a document is attached, it is sufficient to type “See attached” in the “General Comments” field.

A person requesting that information contained in a comment submitted by that person be treated as confidential business information must certify that such information is business confidential and would not customarily be released to the public by the submitter. Confidential business information must be clearly designated as such and the submission must be marked “BUSINESS CONFIDENTIAL” at the top and bottom of the cover page and each succeeding page. Any comment containing business confidential information should be submitted only by fax to Gloria Blue at (202) 395-3475. A non-confidential summary of the confidential information must be submitted to http://www.regulations.gov. The non-confidential summary will be placed in the docket and open to public inspection.

Comments will be placed in the docket and open to public inspection, except confidential business information. Comments may be viewed on the http://www.regulations.gov Web site by entering docket number USTR-2009-0010 in the search field on the home page.

Carmen Suro-Bredie,
Chair, Trade Policy Staff Committee.

[FR Doc. E9-8548 Filed 4-14-09; 8:45 am]

BILLING CODE 3190-W9-P